DEPARTMENT OF HOUSING AND URBAN DEVELOPMENT

[Docket No. FR-5141-N-02]

Manufactured Housing Consensus Committee; Advanced Notice of Proposed Rulemaking

AGENCY: Office of the Assistant Secretary for Housing—Federal Housing Commissioner, HUD.

SUMMARY: This notice invites interested persons to submit recommendations related to proposed changes to the Federal Manufactured Construction and Safety Standards and Manufactured Home Procedural and Enforcement Regulations. The recommendations are to be submitted to the Manufactured Housing Consensus Committee (Consensus Committee) for review, and consideration for providing periodic recommendations to the Secretary of the Department of Housing and Urban Development to adopt, revise, and interpret the Federal manufactured housing construction standards and proposed procedural and enforcement regulations.

ADDRESSES: Proposed changes should be mailed to: The National Fire Protection Association, One Batterymarch Park, P.O. Box 9101, Quincy, Massachusetts 02269, Attention: Robert Solomon.

FOR FURTHER INFORMATION CONTACT: William W. Matchneer III, Associate Deputy Assistant Secretary, Office of Regulatory Affairs and Manufactured Housing, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: The Consensus Committee is mandated and established under the authority of Section 604(a) of the National Manufactured Housing Construction and Safety Standards Act of 1974 (“the Act”), 42 U.S.C. 5401 et seq. Pursuant to the Act, the Consensus Committee (an advisory committee), not less than once during each two-year period, is charged with providing recommendations to the Secretary to revise, and interpret manufactured home construction and safety standards and procedural and enforcement regulations. Further, the Act mandates that an administering organization administer the process for the Consensus Committee's development and interpretation of the Federal standards and the procedural and enforcement regulations. The administering organization that administers this process is the National Fire Protection Association (NFPA). This notice requests that proposed revisions to the Federal standards and regulations be submitted to the Consensus Committee for consideration through the administering organization, NFPA. The NFPA is responsible for ensuring delivery of all proposals to the Consensus Committee for review and consideration.

Dated: April 27, 2007.
Brian D. Montgomery,
Assistant Secretary for Housing—Federal Housing Commissioner.

[FR Doc. E7-8498 Filed 5-3-07; 8:45 am]

BILLING CODE 4210-67-P